FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
November 1, 2013 thru November 30, 2013
11/01/2013
20140078 | G | The Resolute Fund II, L.P.; JFL Equity Investors III, L.P.; The Resolute Fund II, L.P.
20140079 | G | The Resolute Fund II, L.P.; J.F. Lehman Equity Investors II, L.P.; The Resolute Fund II, L.P.
20140080 | G | KKR 2006 Fund L.P.; Sonos, Inc.; KKR 2006 Fund L.P.
20140091 | G | Garrison Opportunity Fund II A LLC; Benedict LLC; Garrison Opportunity Fund II A LLC.
20140092 | G | Global Atlantic Financial Group; Forethought Financial Group, Inc.; Global Atlantic Financial Group.
11/04/2013
20131258 | G | Altisource Portfolio Solutions, S.A., Equator LLC; Altisource Portfolio Solutions, S.A.
20140081 | G | FR XII Charlie AIV, L.P.; Forest Oil Corporation; FR XII Charlie AIV, L.P.
20140094 | G | Joselito D. Campos, Jr.; Blue Acquisition Group, Inc.; Joselito D. Campos, Jr.
20140096 | G | Roger S. Penske; Roland Smith; Roger S. Penske.
11/06/2013
20130692 | G | Sinclair Broadcast Group, Inc.; Pilot Group LP; Sinclair Broadcast Group, Inc.
20140097 | G | Newco—an entity to be formed Odyssey Investment Partners Fund IV, L.P.; Newco—an entity to be formed.
11/07/2013
20140021 | G | T. Michael Riggs: Allied Systems Holdings, Inc.; T. Michael Riggs.
20140054 | G | Apax VIII-A L.P.; GlobalLogic Holdings Inc.; Apax VIII-A L.P.
20140073 | G | Apax VIII-B L.P., GlobalLogic Holdings Inc.; Apax VIII-B L.P.
20140095 | G | First Reserve XII, L.P.; Odyssey Investment Partners Fund IV, L.P.; First Reserve XII, L.P.
11/08/2013
20140104 | G | Integra LifeSciences Holdings Corporation; Covidien plc; Integra LifeSciences Holdings Corporation.
20140109 | G | Toray Industries, Inc.; Zoltek Companies, Inc. Toray Industries, Inc.
20140111 | G | Fibemi NV; John R. McDonald; Fibemi NV.
20140114 | G | Oracle Corporation; BigMachines Holdings, Inc.; Oracle Corporation.
20140120 | G | Regency Energy Partners LP; PVR Partners, L.P.; Regency Energy Partners LP.
20140123 | G | TransAlta Corporation; NextEra Energy, Inc.; TransAlta Corporation.
20140125 | G | Pace plc; Aurora Networks, Inc.; Pace plc.
11/12/2013
20140051 | G | CACI International Inc.; GTCR Fund IX/A, L.P.; CACI International Inc.
20140129 | G | AIPCF V AIV C, LP; Carlisle Companies Incorporated; AIPCF V AIV C, LP.
20140136 | G | Tofane S.A.; Highmark Health; Tofane S.A.
11/14/2013
20140108 | G | AEA Investors Fund V LP Siemens Aktiengesellschaft; AEA Investors Fund V LP.
20140112 | G | Heartland Dental Holdings, Inc.; My Dentist Holdings, LLC; Heartland Dental Holdings, Inc.
20140128 | G | Experian plc; Passport Health Holdings Corporation; Experian plc.
11/15/2013
20140063 | G | Mitchell & Linda Singer; Aaron Holding Investments, LLC; Mitchell & Linda Singer.
20140076 | G | Charlesbank Equity Fund VII, Limited Partnership; David Waggoner Charlesbank Equity Fund VII, Limited Partnership.
11/18/2013
20140059 | G | E & A Credit Union; First Community Federal Credit Union; E & A Credit Union.
20140084 | G | Oman Oil Company S.A.O.C.; Advent Oxea (Cayman) Limited (in voluntary liquidation) Oman Oil Company S.A.O.C.
20140131 | G | OCP Trust; CH Hold Corp.; OCP Trust.
20140132 | G | Patrick G. Ryan and Shirley W. Ryan; Kevin T. Westrope; Patrick G. Ryan and Shirley W. Ryan.
20140134 | G | The Resolute Fund II, L.P.: Lighthouse Equity Fund I, LLC; The Resolute Fund II, L.P.
20140137 | G | Sentinel Capital Partners IV, L.P.; Actuant Corporation; Sentinel Capital Partners IV, L.P.
20140138 | G | Alamo Group Inc.; Jerry M. Morey; Alamo Group Inc.
20140139 | G | Alamo Group Inc.; Dianne C. Morey: Alamo Group Inc.
20140143 | G | Permira V L.P.2; R. Griggs Group Limited; Permira V L.P.2.
20140145 | G | AltaGas Ltd.; Stan Owerko; AltaGas Ltd.
20140146 | G | Idemitsu Kosan Co., Ltd.; Stan Owerko; Idemitsu Kosan Co., Ltd.
20140152 | G | Hari K. Ravichandran; Endurance International Group Holdings, Inc.; Hari K. Ravichandran.
20140157 | G | Nippon Telegraph and Telephone Corporation; Virtela Technology Services Incorporated; Nippon Telegraph and Telephone Corporation.
11/19/2013
20140142 | G | NGL Energy Partners LP; Gavilon Energy Holdings, LLC; NGL Energy Partners LP.
20140151 | G | Clayton, Dubilier & Rice Fund VIII, L.P.; Deere & Company; Clayton, Dubilier & Rice Fund VIII, L.P.
20140153 | G | ACP Investment Fund, L.P.; Dirk Dozier; ACP Investment Fund, L.P.
20140158 | G | Assa Abloy AB; Amarr Company; Assa Abloy AB.
20140161 | G | SoftBank Corp.; R. Marcelo Claure; SoftBank Corp.
20140162 | G | Aurora Equity Partners IV L.P.; VEPF IV AIV III, L.P.; Aurora Equity Partners IV L.P.
11/20/2013
20140148 | G | Darling International Inc., Noordbrabantse Christelijke Boerenbond; Darling International Inc.
20140165 | G | Green Plains Renewable Energy, Inc. Ethanol Holding Company, LLC; Green Plains Renewable Energy, Inc.
11/21/2013
20140163 | G | Littlejohn Fund IV, L.P.; Newgistics, Inc.; Littlejohn Fund IV, L.P.
11/22/2013
20140101 | G | Microsemi Corporation; Symmetricom, Inc.; Microsemi Corporation.
20140170 | G | Amphenol Corporation; General Electric Company; Amphenol Corporation.
11/25/2013
20140116 | G | Teleflex Incorporated; VidaCare Corporation; Teleflex Incorporated.
20140168 | G | ONEOK Partners, L.P., Chevron Corporation; ONEOK Partners, L.P.
20140175 | G | Amdocs Limited; Rahul Sharma; Amdocs Limited.
20140180 | G | Aerin Lauder Zinterhofer; 2012 Marital Trust No. 2; Aerin Lauder Zinterhofer.
20140183 | G | Jane Lauder; 2012 Marital Trust No. 2; Jane Lauder.
20140189 | G | Berkshire Hathaway Inc.; IMI plc; Berkshire Hathaway Inc.
20140191 | G | The Veritas Capital Fund IV, L.P.; Anaren, Inc.; The Veritas Capital Fund IV, L.P.
20140192 | G | KKR North America Fund XI, L.P.; BG Holding LLC; KKR North America Fund XI, L.P.
20140194 | G | Windjammer Senior Equity Fund IV, L.P.; Sentinel Capital Partners IV, L.P.; Windjammer Senior Equity Fund IV, L.P.
20140197 | G | John L. and Susan Ocampo; Mindspeed Technologies, Inc.; John L. and Susan Ocampo.
11/26/2013
20140107 | G | SoftBank Corporation; CUI Acquisition Corp.; SoftBank Corporation.
20140126 | G | NRG Energy, Inc.; Edison Mission Energy; NRG Energy, Inc.
20140140 | G | Newco; General Atlantic Partners 88, L.P. Newco.
20140156 | G | Ixia; Eldad Matityahu and Charlotte H. Matityahu; Ixia.
20140169 | G | John Wood Group PLC; Elkhorn Holdings, Inc.; John Wood Group PLC.
20140187 | G | Rockland Power Partners II, LP; Ameren Corporation; Rockland Power Partners II, LP.
20140199 | G | Calumet Speciality Products Partners, L.P.; Daryl A. Brosnan; Calumet Speciality Products Partners, L.P.
11/27/2013
20140038 | G | Accenture plc; ICG Group, Inc.; Accenture plc.
20140070 | G | eBay Inc.; Braintree, Inc.; eBay Inc.
20140212 | G | Aegean Marine Petroleum Network Inc.; Hess Corporation; Aegean Marine Petroleum Network Inc.
11/29/2013
20140115 | G | Microsoft Corporation; Nokia Corporation; Microsoft Corporation.
20140166 | G | CLARCOR Inc.; General Electric Company; CLARCOR Inc.

FOR FURTHER INFORMATION CONTACT: Renee Chapman, Contact Representative, or Theresa Kingsberry, Legal Assistant, Federal Trade Commission, Premerger Notification Office, Bureau of Competition, Room H-303, Washington, DC 20580, (202) 326-3100.

By Direction of the Commission.
Donald S. Clark,
Secretary.

[FR Doc. 2013-29578 Filed 12-13-13; 8:45 am]

BILLING CODE 6750-01-P